ENVIRONMENTAL PROTECTION AGENCY

[FRL-8555-8]

Science Advisory Board Staff Office; Request for Nominations to Augment Expertise on the Radiation Advisory Committee (RAC)

AGENCY: Environmental Protection Agency (EPA).

ACTION: Notice request for nominations.

SUMMARY: The EPA Science Advisory Board (SAB) Staff Office is requesting nominations of experts in the area of radiogenic cancer risk to augment expertise to the SAB's Radiation Advisory Committee (RAC). Nominees with appropriate expertise will be considered for service on the augmented RAC to review the EPA draft document under development entitled EPA Radiation Risk Estimates Based on BEIR VII, dated 2008.

DATES: Nominations should be submitted by May 9, 2008 per the instructions below.

FOR FURTHER INFORMATION CONTACT: Members of the public wishing further information regarding this Request for Nominations may contact Dr. K. Jack Kooyoomjian, Designated Federal Officer (DFO), via telephone/voice mail at (202) 343-9984; via e-mail at kooyoomjian.jack@epa.gov, or at the U.S. EPA Science Advisory Board (1400F), 1200 Pennsylvania Ave., NW., Washington, DC 20460. General information about the SAB as well as any update concerning this request for nominations may be found on the SAB Web site at: http://www.epa.gov/sab.

Technical Contact: For information concerning the draft technical document currently under development and any background information contact Dr. Mary E. Clark at (202) 343-9348 or clark.marye@epa.gov.

SUPPLEMENTARY INFORMATION: In 1994, the EPA published a report, entitled “Estimating Radiogenic Cancer Risks,” (often referred to as the “Blue Book”) which lays out the EPA's methodology for quantitatively estimating radiogenic cancer risks http://epa.gov/radiation/docs/assessment/402-r-93-076.pdf. That document revised methodology for EPA's estimation of cancer risks due to low-Linear-Energy-Transfer (LET) radiation exposures developed in light of new information on the Japanese atomic bomb survivors. In 1999, a follow-on report made minor adjustments to the previous estimates and presented a partial analysis of the uncertainties in the numerical estimates http://epa.gov/radiation/docs/assessment/402-r-99-003.pdf. Also in 1999 the Agency published Federal Guidance Report 13 http://epa.gov/radiation/docs/federal/402-r-99-001.pdf which utilized the previously published cancer risk models, in conjunction with International Commission on Radiological Protection (ICRP) dosimetric models and the U.S.A. usage patterns, to obtain cancer risk estimates for over 800 radionuclides, and for several exposure pathways. These were later updated at http://www.epa.gov/radiation/federal/techdocs.html#cd_supplement.

In 2006, the U.S. National Academy of Sciences/National Research Council (NAS/NRC) released Health Risks from Exposure to Low Levels of Ionizing Radiation BEIR VII Phase 2 which primarily addresses cancer and genetic risks from low doses of low-LET radiation (available at http://newton.nap.edu/catalog/11340.html#toc. Also available at: http://www.nap.edu/catalog.php?record_id=11340#toc). In August, 2006 EPA prepared the draft White Paper: Modifying EPA Radiation Risk Models Based on BEIR VII, (available at http://epa.gov/radiation/docs/assessment/white-paper8106.pdf), where the Agency proposed changes to the EPA's methodology for estimating radiogenic cancers, based on the contents of BEIR VII. The Agency expects to adopt the models and methodology recommended in BEIR VII, but believes that certain modifications and expansions are desirable or necessary for the EPA's purposes. EPA's Office of Radiation and Indoor Air (ORIA) requested the SAB to review the Agency's draft White Paper and provide advice regarding the proposed approach to dose-response assessment of radionuclides. The EPA SAB/RAC prepared an advisory entitled “Advisory on Agency Draft White Paper entitled Modifying EPA Radiation Risk Models Based on BEIR VII” (EPA-SAB-08-006) dated January 31, 2008 (see http://yosemite.epa.gov/sab/sabproduct.nsf/FD9963E56C66E4FF852573E200493359/$File/EPA-SAB-08-006-unsigned.pdf).

The EPA has asked the SAB to review the draft document currently under development entitled EPA Radiation Risk Estimates Based on BEIR VII, dated 2008. This document under preparation utilizes the advice contained in the NAS/NRC BEIR VII, Phase 2 report, as well as the SAB's recently completed advisory (EPA-SAB-08-006) described above.

The SAB was established by 42 U.S.C. 4365 to provide independent scientific and technical advice to the EPA Administrator on the technical basis for Agency positions and regulations. The SAB is a Federal Advisory Committee chartered under the Federal Advisory Committee Act (FACA), as amended, 5 U.S.C., App. The SAB will comply with the provisions of FACA and all appropriate SAB Staff Office procedural policies in conducting advisory activities. The SAB RAC provides scientific and technical advice to the EPA Administrator through the chartered SAB on scientific matters pertaining to EPA's mission in protecting public health and the environment.

Request for Nominations: The SAB RAC augmented with experts in radiogenic cancer risk will review the Agency's draft document currently under preparation and to be entitled EPA Radiation Risk Estimates Based on BEIR VII. Accordingly, the SAB is seeking nominations of nationally and internationally recognized experts with specialized expertise and experience in radiogenic cancer risk in one or more of the following areas: radiobiology, radiation biophysics, cancer epidemiology related to radiation, radiation exposure and uptake, and high-to-low dose extrapolation for LET radiation. The augmented RAC will provide advice through the chartered SAB, and will comply with the provisions of the Federal Advisory Committee Act (FACA) and all appropriate SAB procedural policies.

Process and Deadline for Submitting Nominations: Any interested person or organization may nominate individuals qualified in the areas of radiogenic cancer risk described above. Self-nominations are also requested. Nominations may be submitted in electronic format through a link on the blue navigational bar on the SAB Web Site at: http://www.epa.gov/sab. Please follow the instructions for submitting nominations carefully, and include all of the information requested. The SAB Staff Office requests contact information of the person making the nomination; contact information for the nominee; the disciplinary and specific areas of expertise of the nominee; the nominee's curriculum vita; and a biographical sketch of the nominee indicating current position, educational background, research activities, and recent service on other national advisory committees or national professional organizations. Anyone unable to submit nominations using the electronic form, or who may have questions concerning the nomination process or any other aspect of this notice may contact Dr. K. Jack Kooyoomjian, DFO, at the contact information above. Nominations should be submitted in time to arrive no later than May 9, 2008. The SAB Staff Office will acknowledge receipt of nominations.

The selection process used by the SAB Staff office in selecting nominees for service on SAB Committees and Panels is described in Overview of the Panel Formation Process at the Environmental Protection Agency, Science Advisory Board (EPA-SAB-EC-COM-02-010), on the SAB Web Site. Nominees identified by respondents to this Federal Register notice and other sources, will be included in an initial list termed the “Widecast”. The credentials submitted by nominees will be evaluated by the SAB Staff Office, and all technically qualified candidates will be included in a smaller subset of nominees termed the “Short List” for additional consideration. The Short List will be posted on the SAB Web Site at: http://www.epa.gov/sab and will include the nominee's name and biographical sketch. Public comments on the Short List will be accepted for 21 calendar days. During this comment period, the public will be requested to provide information, analysis or other documentation on nominees that the SAB Staff Office should consider in evaluating candidates for the panel. For the SAB, a balanced panel is characterized by inclusion of nominees who possess the necessary domains of knowledge, the relevant scientific perspectives (which, among other factors, can be influenced by work history and affiliation), and the collective breadth of experience to adequately address the charge. Public responses to the Short List will be considered in the selection of the panel members, along with information provided by nominees and information independently gathered by SAB Staff (e.g., financial disclosure information and computer searches to evaluate a nominee's prior involvement with the topic under review). Specific criteria to be used in evaluating Short List nominees include:

(a) Scientific and/or technical expertise, knowledge, and experience (primary factors);

(b) absence of financial conflicts of interest;

(c) scientific credibility and impartiality;

(d) availability and willingness to serve; and

(e) ability to work constructively and effectively on committees.

Dated: April 11, 2008.
Anthony F. Maciorowski,
Deputy Director, EPA Science Advisory Board Staff Office.

[FR Doc. E8-8400 Filed 4-17-08; 8:45 am]

BILLING CODE 6560-50-P